DEPARTMENT OF STATE

[Public Notice 11573]

Notice of Public Meeting of the U.S. President's Emergency Plan for AIDS Relief (PEPFAR) Scientific Advisory Board; Correction

ACTION: Notice; correction.

SUMMARY: The Department of State published a document in the Federal Register of October 6, 2021, concerning the notice of a public meeting of the U.S. President's Emergency Plan for AIDS Relief (PEPFAR) Scientific Advisory Board. The notice was missing the registration hyperlink.

FOR FURTHER INFORMATION CONTACT: Dr. Sara Klucking, Designated Federal Officer for the SAB, Office of the U.S. Global AIDS Coordinator and Health Diplomacy at KluckingSR@state.gov or (202) 615-4350.

SUPPLEMENTARY INFORMATION:

Correction

In the Federal Register of October 6, 2021, in FR Vol. 86, No. 191, Doc. 2021-21799, on page 55678, in the first column, correct the ADDRESSES section to read:

ADDRESSES: The meeting will be held virtually via an online platform. Individuals are asked to pre-register at https://docs.google.com/forms/d/e/1FAIpQLSeRxxRe4wjbSNmlhelXD-RINWASbknPAFWwkjTUJ8zUDbb7FA/viewform. The agenda will be sent to all registrants and will also be posted on the PEPFAR SAB web page at www.state.gov/scientific-advisory-board-pepfar one week in advance of the meeting, along with instructions on how to access the meeting.

Sara Klucking,
Director, Office of Research and Science, Office of the U.S. Global AIDS Coordinator and Health Diplomacy, Office of the Secretary of State.

[FR Doc. 2021-23455 Filed 10-27-21; 8:45 am]

BILLING CODE 4710-10-P